THE NATIONAL FOUNDATION FOR THE ARTS AND THE HUMANITIES

Institute of Museum and Library Services

Notice of Proposed Information Collection Request: Digital Inclusion Corps Pilot Project Evaluation

AGENCY: Institute of Museum and Library Services, National Foundation for the Arts and the Humanities.

ACTION: Notice, request for comments, collection of information.

SUMMARY: The Institute of Museum and Library Service (“IMLS”) as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed.

The purpose of this Notice is to solicit comments concerning the evaluation instrument for the Digital Inclusion Corps Pilot Project, a project under a cooperative agreement between IMLS and The PAST Foundation.

A copy of the proposed information collection request can be obtained by contacting the individual listed below in the ADDRESSES section of this notice.

DATES: Written comments must be submitted to the office listed in the ADDRESSES section below on or before March 3, 2017.

ADDRESSES: For a copy of the documents contact: Robin Dale, Associate Deputy Director, Library Services, Institute of Museum and Library Services, 955 L'Enfant Plaza North SW., Suite 4000, Washington, DC 20024. Ms. Dale can be reached by telephone: 202-653-4650; fax: 202-653-4603 email: rdale@imls.gov or by or by teletype (TTY/TDD) for persons with hearing difficulty at 202-653-4614.

FOR FURTHER INFORMATION CONTACT: Stephanie Burwell, Chief Information Officer, Office of the Chief Information Officer, Institute of Museum and Library Services, 955 L'Enfant Plaza North SW., Suite 4000, Washington, DC 20024-2135. Mrs. Burwell can be reached by Telephone: 202-653-4684, Fax: 202-653-4625, or by email at sburwell@imls.gov or by teletype (TTY/TDD) at 202-653-4614. Office hours are from 8:30 a.m. to 5 p.m., E.T., Monday through Friday, except Federal holidays.

SUPPLEMENTARY INFORMATION:

I. Background

The Institute of Museum and Library Services is the primary source of federal support for the Nation's 123,000 libraries and 35,000 museums. The Institute's mission is to inspire libraries and museums to advance innovation, learning and civic engagement. We provide leadership through research, policy development, and grant making. IMLS provides a variety of grant programs to assist the Nation's museums and libraries in improving their operations and enhancing their services to the public. (20 U.S.C. 9101 et seq.).

II. Current Actions

The Institute of Museum and Library Services and The PAST Foundation have entered into a cooperative agreement to create and pilot the Digital Inclusion Corps. The project is to explore the feasibility of having local digital literacy volunteers connected nationally to a supportive peer network working towards increased digital inclusion in the United States. The project will provide digital literacy training staff in five rural or tribal regions and also address the national need for a repository of digital literacy training materials. The project will be evaluated; the evaluation is the subject of this proposed collection of information.

The IMLS is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Institute of Museum and Library Services.

Title: Digital Inclusion Corps Pilot Project Evaluation.

OMB Number: TBD.

Agency Number: 3137.

Frequency: One time.

Affected Public: State library agencies, libraries, museums, museum organizations, community support organizations.

Number of Respondents: 30.

Estimated Time per Respondent: less than 1 hour.

Total Burden Hours: 45.

Total Annualized cost to respondents: $ 532.20.

Total Annualized capital/startup costs: 0.

Total Annualized Cost to Federal Government: $0.

Public Comments Invited: Comments submitted in response to this notice will be summarized and/or included in the request for OMB's clearance of this information collection.

Dated: December 28, 2016.
Kim A. Miller,
Grants Management Specialist, Office of the Chief Financial Officer.

[FR Doc. 2016-31858 Filed 1-3-17; 8:45 am]

BILLING CODE 7036-01-P